DEPARTMENT OF COMMERCE

National Telecommunications and Information Administration

[Docket No. 0908061222-91268-03]

RIN 0660-ZA29

State Broadband Data and Development Grant Program

AGENCY: National Telecommunications and Information Administration, U.S. Department of Commerce.

ACTION: Notice of funds availability; clarification of period of performance.

SUMMARY: The National Telecommunications and Information Administration (NTIA), U.S. Department of Commerce, publishes this Notice to provide clarification regarding the period of performance for awards under the State Broadband Data and Development Grant Program as set forth in the Notice of Funds Availability and Solicitation of Applications (NOFA) published on July 8, 2009.

DATES: NTIA implements this notice as of September 10, 2009. All amended budgets must be submitted to NTIA no later than 11:59 p.m. ET on September 15, 2009, as more fully described in this Notice.

ADDRESSES: All amended budgets must be submitted through the online Grants.gov system. NTIA requests that Applicants also submit a courtesy copy to broadbandmapping@ntia.doc.gov.

FOR FURTHER INFORMATION CONTACT: Anne W. Neville, Program Director, State Broadband Data and Development Grant Program, National Telecommunications and Information Administration, U.S. Department of Commerce, 1401 Constitution Avenue, NW., Room 4716, Washington, DC 20230; by telephone at (202) 482-4949 or via electronic mail at broadbandmapping@ntia.doc.gov. Information about the State Broadband Data and Development Grant Program can also be obtained electronically via the Internet at http://www.broadbandusa.gov/broadband_mapping.htm.

SUPPLEMENTARY INFORMATION: On July 8, 2009, NTIA published a Notice of Funds Availability (NOFA) in the Federal Register to announce the availability of funds for the State Broadband Data and Development Grant Program pursuant to the authority provided in the American Recovery and Reinvestment Act of 2009 (Recovery Act), Public Law 111-5, 123 Stat. 115 (2009), and the Broadband Data Improvement Act (BDIA), Title I, Public Law 110-385, 122 Stat. 4096 (2008).¹ In the NOFA, NTIA provided that the period of performance for awards under the Program would be five years from the date of award.²

¹ State Broadband Data and Development Grant Program, Notice of Funds Availability and Solicitation of Applications, 74 FR 32545 (July 8, 2009) (NOFA).

² 74 FR 32550.

NTIA's highest priority with respect to this Program is to facilitate the development and maintenance of a national broadband map. The Agency seeks to develop the map in such a way that encourages continually improved data collection efforts while maintaining fiscal responsibility, resulting in a map that meets the requirements of Congress and the needs of all stakeholders, including policymakers and consumers. To that end, NTIA has determined that it will at this time fund mapping and data collection efforts for two years and will assess lessons learned, determine best practices, and investigate opportunities for improved data collection prior to obligating funding for subsequent years. NTIA now clarifies that the initial period of performance for funds allocated to Broadband Mapping purposes will be two (2) years from the date of award and any subsequent funding will be subject to and contingent upon the agency's review of program priorities and the availability of funds.

NTIA will review and negotiate awards based on the five-year budget that applicants have already submitted. In light of this clarification, however, NTIA will allow an applicant to submit a new budget on SF 424A reflecting any revisions necessary for the first two years of the award period (2009-2010, 2010-2011). Any revised budget must be submitted no later than 11:59 p.m. on September 15, 2009, through the online Grants.gov system. NTIA requests that Applicants also submit a courtesy copy to broadbandmapping@ntia.doc.gov.

The period of performance for funds allocated to Broadband Planning purposes will remain five (5) years from the date of award. All other requirements provided in the Notice published on July 8, 2009, remain unchanged.

Dated: September 4, 2009.
Lawrence E. Strickling,
Assistant Secretary for Communications and Information.

[FR Doc. E9-21797 Filed 9-9-09; 8:45 am]

BILLING CODE 3560-60-P